DEPARTMENT OF TRANSPORTATION

Federal Transit Administration

Notice of Intent To Prepare an Environmental Impact Statement for the Southwest Corridor Light Rail Project, Multnomah and Washington Counties, Oregon

AGENCY: Federal Transit Administration (FTA), DOT.

ACTION: Notice of intent to prepare an environmental impact statement.

SUMMARY: The Federal Transit Administration (FTA), Metro (the regional government and metropolitan planning organization that serves the cities and counties of the Portland, Oregon metropolitan area) and the Tri-County Metropolitan Transportation District of Oregon (TriMet) intend to prepare an Environmental Impact Statement (EIS) to evaluate the benefits and impacts of the proposed Southwest Corridor Light Rail Project (Project). The Project would improve public transportation between and through southwest Portland, Tigard and Tualatin. FTA may provide funding for the Project through its Capital Investment Grant program. FTA, Metro and TriMet will prepare the EIS in accordance with the National Environmental Policy Act (NEPA), FTA environmental regulations, and the Fixing America's Surface Transportation Act (FAST Act). This Notice initiates formal scoping for the EIS, provides information on the nature of the proposed transit Project, invites participation in the EIS process, and identifies potential environmental effects to be considered. It also invites comments from interested members of the public, tribes, and agencies on the scope of the EIS and announces upcoming public scoping meetings. Comments should address (1) feasible alternatives that may better achieve the Project's need and purposes with fewer adverse impacts and (2) any significant environmental impacts relating to the alternatives.

DATES: The public scoping period will begin on the date of publication of this Notice and will continue through September 30, 2016 or 30 days from the date of publication, whichever is later. Please send written comments on the scope of the EIS, including the preliminary statement of the purpose of and need for the Project, the alternatives to be considered in the EIS, the environmental and community impacts to be evaluated, and any other Project-related issues, to the address below. Public scoping meetings will be held at the times and locations indicated in ADDRESSES below. FTA, Metro and TriMet will take oral and written comments at the scoping meeting. FTA, Metro and TriMet have also scheduled a meeting to collect comments of tribes and agencies with an interest in the proposed Project.

ADDRESSES: Written comments on the scope of the EIS must be received by September 30, 2016 or 30 days from the publication date of this Notice, whichever is later. Please send them to Chris Ford, Investment Areas Project Manager, Metro, 600 NE Grand Avenue, Portland Oregon 97232 or to swclrt.scoping@oregonmetro.gov . Comments may also be offered at the public scoping meeting, which will be held at:

• Wilson High School, 1151 SW. Vermont Street, Portland, Oregon, on September 22, 2016, from 6 to 8 p.m.

A scoping meeting for interested tribes and Federal and non-Federal agencies will be at:

• TriMet, 1800 SW 1st Ave, 3rd Floor, Columbia Conference Room, Portland, Oregon on September 20 from 1 to 3 p.m.

All meeting places are accessible to persons with disabilities. Any individual with a disability who requires special assistance, such as a sign language interpreter, or any individual who requires translation or interpretation services, must contact Yuliya Kharitonova at (503) 813-7535 at least 48 hours before the meeting. A scoping information packet will be available before the meetings on the Project Web site or by calling Yuliya Kharitonova at (503) 813-7535; copies will also be available at the public scoping meeting.

FOR FURTHER INFORMATION CONTACT: John Witmer, FTA Community Planner, John.Witmer@dot.gov, phone: (206) 220-7954.

SUPPLEMENTARY INFORMATION:

Background. NEPA “scoping” (40 CFR 1501.7) has specific and fairly limited objectives, one of which is to identify the alternatives' significant issues that will be examined in detail in the EIS, while simultaneously limiting consideration and development of issues that are not truly significant. The NEPA scoping process should identify potentially significant environmental impacts caused by the Project and that give rise to the need to prepare an EIS; impacts that are deemed not to be significant need not be developed extensively in the context of the impact statement. The EIS must be focused on impacts of consequence consistent with the ultimate objectives of the NEPA implementing regulations—“to make the environmental impact statement process more useful to decision makers and the public; and to reduce paperwork and the accumulation of extraneous background data, in order to emphasize the need to focus on real environmental issues and alternatives. . . [by requiring] impact statements to be concise, clear, and to the point, and supported by evidence that agencies have made the necessary environmental analyses.” Executive Order 11991, of May 24, 1977. Transit projects may also generate environmental benefits, which should also be highlighted; the EIS process should draw attention to positive impacts, not just negative impacts.

FTA, Metro and TriMet are considering two alternatives for the Project: (1) A No-Build Alternative, as required by NEPA, that reflects the existing transportation system plus the future transportation improvements included in the Metro Regional Transportation Plan, but not including the Project; and (2) a Light Rail Transit (LRT) Alternative (Build Alternative) that would extend the existing TriMet MAX system 12 miles from the Transit Mall in downtown Portland to Bridgeport Village in Tualatin, generally running along the SW Barbur Boulevard/Interstate 5 corridor through Southwest Portland, the Tigard Triangle and downtown Tigard. The Build Alternative has design options in several locations.

Metro and TriMet developed the proposed Build Alternative through an early scoping process and an analysis of a wide range of potential alternatives. FTA and Metro published notice of the early scoping process in the Federal Register on Sept. 29, 2011. Please see the Project Web site (http://www.swcorridorplan.org) for information about the early scoping and other planning activities, the analysis of alternatives, the decisions of the Project steering committee, and background technical reports.

The Southwest Corridor is a fast-growing part of the Portland metropolitan region. Its major transportation facilities, including Interstate 5 (I-5), Oregon State Highway 217, and Oregon State Highway 99W, are congested and unreliable. As more people and employers locate in the corridor, worsening traffic conditions will impact economic development and livability. The corridor ranked as the highest priority corridor in Metro's 2009 High Capacity Transit System Plan, and in May 2016 the Project's steering committee chose light rail as the preferred mode to provide high capacity transit (HCT) service.

Preliminary purpose of and need for the Project: The Project's purpose is to directly connect Tualatin, downtown Tigard, Southwest Portland, and the region's central city with light rail, other high-quality transit, and appropriate community investments to improve mobility and create the conditions that will allow communities in the corridor to achieve their land use vision. Specifically, within the Southwest Corridor, the Project aims to:

• Provide light rail transit service that is cost-effective to build and operate, and that can serve existing and anticipated demand in the corridor;

• Improve transit reliability, frequency, and travel times, and connect to Westside Express Service (WES) commuter rail and other existing and future transit networks;

• Support adopted regional and local plans including the 2040 Growth Concept, the Barbur Concept Plan, the Tigard Triangle Strategic Plan and the Tigard Downtown Vision;

• Create multimodal transportation networks to provide safe and convenient access to transit and adjacent land uses;

• Advance active transportation and encourage physical activity;

• Provide travel options that reduce overall transportation costs;

• Improve multimodal access to existing jobs, housing and educational opportunities and foster opportunities for commercial development and a range of housing types adjacent to transit;

• Ensure that benefits and impacts promote community equity; and

• Advance transportation projects that are sensitive to the environment, improve water and air quality, and help achieve the sustainability goals in applicable plans.

The Project is needed because:

• Transit service to important destinations in the corridor is limited, and unmet demand for transit is increasing due to growth;

• Limited street connectivity and gaps in pedestrian and bicycle networks create barriers and unsafe conditions for transit access and active transportation;

• Travel is slow and unreliable on congested roadways;

• The corridor has a limited supply and range of housing options with good access to multimodal transportation networks, and has inadequate transportation between residences, employment, and services;

• Regional and local plans call for High Capacity Transit in the corridor to meet land use goals; and

• State, regional and local goals require investments to reduce greenhouse gas emissions.

Proposed alternatives: NEPA requires the Draft EIS to analyze a No-Build Alternative as a baseline against which to assess the impacts of the proposed project. The proposed Project in this case is the Light Rail Transit (LRT) Alternative. The Project steering committee chose light rail as the preferred mode because of its greater long-term carrying capacity and superior projected transit performance compared to other modes, ability to integrate into the existing light rail system and higher level of public support. The alignment and design options proposed for the Draft EIS resulted from several years of planning, technical analysis, public engagement, and input from affected jurisdictions.

The LRT Alternative travels generally southwest from the south end of the Downtown Portland Transit Mall through southwest Portland and Tigard to Bridgeport Village in Tualatin. The route is about 12 miles long.

FTA, Metro and TriMet propose to consider several design options for the LRT Alternative. The scoping materials (at http://www.swcorridorplan.org) describe the primary alignment and the possible options in detail. For purposes of this Notice, the Project can be generally described as follows:

In South Portland, the alignment runs along either SW Barbur Boulevard or SW Naito Parkway. Between SW 13th Avenue and SW 60th Avenue, the alignment could run either in the center of SW Barbur, crossing I-5 at-grade at SW Capitol Highway, or next to I-5, crossing I-5 and SW Capitol Highway with an above-grade structure. Near the Portland-Tigard city limits the alignment would turn south over I-5 into the Tigard Triangle on a new structure and then proceed south and west to SW 70th Avenue. There are two options from SW 70th Avenue: (1) Through-Routed LRT and (2) Branched LRT. Through-Routed LRT would extend south from the Portland Transit Mall to downtown Tigard following one of two routes—crossing Highway 217 on a new structure extending from SW Clinton Street to SW Hall Boulevard, or extending from SW Beveland Street to SW Ash Street—and then traveling to Bridgeport Village following one of two routes, either generally next to I-5 or generally next to the existing WES and freight rail line. Branched LRT would diverge at the Tigard Triangle, with one branch turning west to terminate in downtown Tigard following one of three routes—crossing Highway 217 on a new structure extending from SW Clinton Street to SW Hall Boulevard, from SW Beveland Street to SW Ash Street, or from SW Beveland Street to SW Wall Street—and one branch continuing south on a separate crossing of Highway 217 to terminate at Bridgeport Village without traveling through downtown Tigard.

Under any of the options, the Project would include stations at these locations:

• Between SW Gibbs Street and SW Grover Street (on SW Barbur or SW Naito)

• Between SW Custer Street and SW 13th Avenue (on SW Barbur or adjacent to I-5)

• At the Barbur Transit Center with a modified or expanded park-and-ride

• At SW 53rd Avenue with a new park-and-ride (on SW Barbur or adjacent to I-5)

• On SW 70th Avenue between SW Atlanta Street and SW Baylor Street (could include a new park-and-ride)

• At SW Bonita Road (adjacent to freight rail or adjacent to I-5) (at location next to I-5, could include a new park-and-ride)

• At SW Upper Boones Ferry Road (adjacent to freight rail or adjacent to I-5) (could include a park-and-ride)

• Bridgeport Village (could include an expanded park-and-ride)

In addition, depending on the option, there would be stations at these locations:

• SW Capitol Hill Road and SW Barbur Boulevard

• SW 19th Avenue and SW Barbur Boulevard

• SW 26th or SW 30th Avenue and SW Barbur Boulevard

• SW Spring Garden Street and adjacent to I-5

• SW 26th Avenue and adjacent to I-5

• On SW Beveland Street near SW 70th Avenue,

• Adjacent to the WES commuter rail tracks near the existing Tigard Transit Center, (could include an expanded park-and-ride)

• On SW Ash Street near SW Commercial Street (could include an expanded park-and-ride for the nearby Tigard Transit Center)

• Near SW Wall Street and SW Hunziker Street (could include a new park-and-ride)

The LRT Alternative will include a light rail maintenance facility. This could be a new facility, either near SW Wall Street and the WES Commuter Rail line, or just west of I-5 north of SW Bonita Road, or an expansion of the existing Ruby Junction maintenance facility in Gresham.

The LRT Alternative also includes associated roadway, bicycle and pedestrian projects that may be eligible for federal funding and could be constructed together with the transit Project, thereby meriting joint environmental analysis. Among the most notable are mechanized bike/ped connections to Marquam Hill (Oregon Health Sciences University) and Mt. Sylvania (Portland Community College); new opportunities for bicycles and pedestrians to cross I-405; new and upgraded sidewalks, bike lanes, and safe crossings on SW Barbur Boulevard from SW 3rd Avenue to SW 60th Avenue, including reconstruction of the Vermont and Newbury viaducts; and both major and minor roadway improvements along the alignment, including possible revisions to the west end of the Ross Island Bridge, crossings of I-5, and crossings of Highway 217. Please refer to the scoping materials for detailed information about these and many other potential improvements.

Public and agency input received during scoping will help FTA, Metro and TriMet select a range of reasonable alternatives and options to evaluate in the Draft EIS. FTA, Metro and TriMet also invite comment on potential Joint Development opportunities along the alignment.

Possible adverse effects: Consistent with NEPA, FTA, Metro and TriMet will evaluate, with input from the public and tribes and agencies, the potential impacts of the alternatives on the physical, human, and natural environment. Likely areas of investigation include effects on air quality and greenhouse gas emissions, property acquisition and displacements, ecosystems (including threatened and endangered species), community livability, energy use, environmental justice, geology and soils, hazardous materials, historic and cultural resources, land use and economic effects, noise and vibration, parks and recreation, safety and security, transportation, utilities and public services, visual and aesthetic qualities, water quality and hydrology, and wetlands. Significant impacts prior to the development of mitigation measures may occur in the areas of property acquisition and displacements, historic and cultural resources, noise and vibration, parks and recreation, transportation, visual and aesthetic qualities, water quality and hydrology, and wetlands. Significant beneficial impacts could occur in the areas of air quality and greenhouse gas emissions, energy use, environmental justice, safety and security, and transportation. The EIS will evaluate short-term construction impacts and long-term operating impacts and will also consider indirect and cumulative impacts. The EIS will propose measures to avoid, minimize, and mitigate adverse impacts.

In accordance with FTA policy and regulations, FTA, Metro and TriMet will comply with all Federal environmental laws, regulations, and executive orders applicable to the proposed project during the environmental review process.

Roles of Agencies and the Public: NEPA, and FTA's regulations for implementing NEPA, call for broad involvement in the EIS process. FTA, Metro and TriMet therefore invite Federal and non-Federal agencies and Indian tribes to participate in the NEPA process. Any agency or tribe interested in the Project that does not receive such an invitation should promptly notify the Metro Investment Area Project Manager identified above under ADDRESSES.

Interested parties may review a draft Coordination Plan for public and agency involvement at the Project Web site. It identifies the Project's coordination approach and structure, details the major milestones for agency and public involvement, and includes an initial list of interested agencies and organizations.

Combined FEIS and Record of Decision: Under 23 U.S.C. 139, FTA should combine the Final EIS and Record of Decision if it is practicable. FTA invites interested parties to comment on a combined FEIS/ROD for the Project to help FTA decide whether combining the FEIS/ROD is practicable.

Paperwork Reduction. The Paperwork Reduction Act seeks, in part, to minimize the cost to the taxpayer of the creation, collection, maintenance, use, dissemination, and disposition of information. Consistent with this goal and with principles of economy and efficiency in government, FTA tries to limit insofar as possible distribution of complete printed sets of NEPA documents. Accordingly, unless a specific request for a complete printed set of the NEPA document is received before the document is printed, FTA, Metro and TriMet will distribute only electronic copies of the NEPA document. A complete printed set of the environmental document will be available for review at Metro's offices; an electronic copy of the complete environmental document will be available on the Project Web site.

Other: Metro and TriMet may seek funding for the proposed Project under FTA's Capital Investment Grant Program, 49 U.S.C. 5309, and would therefore be subject to New Starts regulations (49 CFR part 611). The New Starts regulations also require the submission of certain project-justification information to support a request to initiate preliminary engineering. This information is normally developed in conjunction with the NEPA process. The EIS will include pertinent New Starts evaluation criteria.

Dated: August 25, 2016.
Kenneth A. Feldman,
Deputy Regional Administrator, Federal Transit Administration, Region 10, Seattle, WA.

[FR Doc. 2016-21160 Filed 9-1-16; 8:45 am]

BILLING CODE P